DEPARTMENT OF JUSTICE

Notice of Lodging of Consent Decree Under the Comprehensive Environmental Response, Compensation and Liability Act

Notice is hereby given that on October 25, 2001, a proposed Consent Decree (“Decree”) in United States v. W.R. Grace & Co., et al., Civil No. 00-167-M-DWM was lodged with the United States District Court for the District of Montana. The United States filed this action pursuant to section 104(e) of the Comprehensive Environmental Response, Compensation and Liability Act, 42 U.S.C. 9604(e), for entry and access to portions of the Libby Asbestos Site in and near Libby, Montana and for civil penalties for failure to provide access.

The terms of the proposed Decree would allow the United States a general unsecured claim jointly against Defendants W.R. Grace & Company and Kootenai Development Corporation in the amount of $71,000 in the Bankruptcy Case captioned In re: W.R. Grace & Co., et al., Case No. 01-01139 (JJF) (D. Del.). In addition, W.R. Grace & Co.-Conn would undertake a Supplemental Environmental Project at a cost of $2,750,000 to form and fund a Montana non-profit corporation to establish and administer a program to pay for medical care for certain asbestos-related illnesses. This general unsecured claim together with W.R. Grace & Co.-Conn.'s performance of the Supplemental Environmental Project will resolve the claims of the United States against W.R. Grace & Company and Kootenai Development Corporation in Civil No. 00-167-M-DWM.

The Department of Justice will receive for a period of thirty (30) days from the date of this publication comments relating to the Decree. Comments should be addressed to the Assistant Attorney General, Environment and Natural Resources Division, P.O. Box 7611, U.S. Department of Justice, Washington, DC 20044-7611, and should refer to, United States v. W.R. Grace & Co., et al., Civil No. 00-167-M-DWM, and D.J. Ref. # 90-11-2-07106/1.

The Decree may be examined at the office of the U.S. Department of Justice, Environmental Enforcement Section, 999 18th Street, Suite 945, North Tower, Denver, Colorado; at U.S. EPA Region 8, Office of Regional Counsel, 999 18th Street, Suite 300, South Tower, Denver, Colorado. A copy of the Decree may also be obtained by mail from the Consent Decree Library, P.O. Box 7611, U.S. Department of Justice, Washington, DC 20044-7611. In requesting a copy, please enclose a check in the amount of $5.50 (25 cents per page reproduction cost) payable to the Consent Decree Library.

Robert D. Brook,
Assistant Chief, Environmental Enforcement Section, Environment and Natural Resources Division.

[FR Doc. 01-28368 Filed 11-9-01; 8:45 am]

BILLING CODE 4410-15-M